FEDERAL COMMUNICATIONS COMMISSION

[WT Docket No. 08-7; DA 08-78]

Comment Sought on Petition for Declaratory Ruling That Text Messages and Short Codes Are Title II Services or Are Title I Services Subject to Section 202 Non-Discrimination Rules

AGENCY: Federal Communications Commission.

ACTION: Notice.

SUMMARY: In this document, comment is sought on a December 11, 2007 petition for declaratory ruling (Petition) filed by Public Knowledge, Free Press, Consumer Federation of America, Consumers Union, EDUCAUSE, Media Access Project, New America Foundation, and U.S. PIRG (Petitioners). The Petitioners ask the Federal Communications Commission (Commission) to clarify the regulatory status of text messaging services, including short-code based services sent from and received by mobile phones, and declare that these services are governed by the anti-discrimination provisions of Title II of the Communications Act.

DATES: Interested parties may file comments on or before February 13, 2008, and reply comments on or before March 14, 2008.

ADDRESSES: You may submit comments, identified by WT Docket No. 08-7, by any of the following methods:

• Federal eRulemaking Portal: http://www.regulations.gov. Follow the instructions for submitting comments.

• Federal Communications Commission's Web Site: http://www.fcc.gov/cgb/ecfs/. Follow the instructions for submitting comments.

• Mail: Filings can be sent by hand or messenger delivery, by commercial overnight courier, or by first-class or overnight U.S. Postal Service mail (although we continue to experience delays in receiving U.S. Postal Service mail). All filings must be addressed to the Commission's Secretary, Office of the Secretary, Federal Communications Commission.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Jennifer Salhus, Spectrum and Competition Policy Division, Wireless Telecommunications Bureau, 202-418-1310.

SUPPLEMENTARY INFORMATION: This is a summary of the Commission's Public Notice released on January 14, 2008. The full text of the Public Notice is available for public inspection and copying during normal business hours in the FCC Reference Center, Room CY-A257, 445 12th St., SW., Washington, DC 20554. The complete text may also be purchased from the Commission's duplicating contractor, Qualex International, Portals II, 445 12th St., SW., Room CY-B402, Washington, DC, telephone (202) 863-2893, facsimile (202) 863-2898, or via e-mail qualexint@aol.com. Additionally, the complete item is available on the Federal Communications Commission's Web site at http://www.fcc.gov.

The Petitioners assert that text messaging is “rapidly becoming a major mode of speech, as a replacement for and a complement to traditional voice communications,” and that “short codes are developing into an important tool for political and social outreach.” The Petitioners allege that mobile carriers “arbitrarily decide what customers to serve and which speech to allow in text messages, refusing to serve those that they find controversial or that compete with the mobile carriers' services.” In their Petition, the Petitioners request that the Commission declare that text messaging services are “commercial mobile services” governed by Title II, and thus are subject to the non-discrimination provisions of section 202. Alternatively, the Petitioners request that, if the Commission declares that these services are “information services” subject to its Title I authority, the Commission should exercise ancillary jurisdiction to apply the non-discrimination provisions of Title II to text messaging services. Petitioners also request that, in either case, the Commission should declare that refusing to provision a short code or otherwise blocking text messages because of the type of speech, or because the party seeking such service is a competitor, is “unjust and unreasonable discrimination” in violation of law.

Pursuant to sections 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington, DC 20554.

People with Disabilities: To request materials in accessible formats for people with disabilities (braille, large print, electronic files, audio format), send an e-mail to fcc504@fcc.gov or call the Consumer & Governmental Affairs Bureau at 202-418-0530 (voice), 202-418-0432 (tty).

Federal Communications Commission.
Fred B. Campbell, Jr.,
Chief, Wireless Telecommunications Bureau.

[FR Doc. E8-1452 Filed 1-25-08; 8:45 am]

BILLING CODE 6712-01-P